DEPARTMENT OF HEALTH AND HUMAN SERVICES

National Institutes of Health

National Cancer Institute; Amended Notice of Meeting

Notice is hereby given of a change in the meeting of the National Cancer Institute Special Emphasis Panel, June 11, 2018, 01:00 p.m. to June 11, 2018, 03:00 p.m., National Cancer Institute Shady Grove, 9609 Medical Center Drive, 7W618, Rockville, MD 20850 which was published in the Federal Register on May 04, 2018, 83 FR 19789.

This meeting notice is amended to change the meeting date from June 11, 2018 to June 13, 2018. The meeting time has changed from 1:00 p.m.-3:00 p.m. to 10:30 a.m.-12:30 p.m. The meeting is closed to the public.

Dated: May 10, 2018.
Melanie J. Pantoja,
Program Analyst, Office of Federal Advisory Committee Policy.

[FR Doc. 2018-10352 Filed 5-14-18; 8:45 am]

BILLING CODE 4140-01-P